NATIONAL SCIENCE FOUNDATION

Sunshine Act Meetings

The National Science Board (NSB) hereby gives notice of the scheduling of a teleconference of the NSB for the transaction of NSB business pursuant to the NSF Act and the Government in the Sunshine Act. This meeting is being held on short notice. The Executive Committee determined that the interests of the National Science Foundation require the short notice.

TIME AND DATE: Tuesday, September 3, 2024, from 3-3:30 p.m. eastern.

PLACE: This meeting will be in person and via videoconference through the National Science Foundation, 2415 Eisenhower Avenue, Alexandria, VA 22314.

STATUS: Closed.

MATTERS TO BE CONSIDERED: The agenda is: NSB Chair's Remarks about the Agenda; NSB FY26 Budget Presentation; Committee on Oversight Report on the Office of the Inspector General FY26 Budget Submission; and NSB vote to transmit NSF Budget Submission to the Office of Management and Budget.

CONTACT PERSON FOR MORE INFORMATION: Point of contact for this meeting is: Chris Blair, cblair@nsf.gov, 703/292-7000. Meeting information and updates may be found at www.nsf.gov/nsb.

Ann E. Bushmiller,
Senior Counsel to the National Science Board.

[FR Doc. 2024-19782 Filed 8-29-24; 11:15 am]

BILLING CODE 7555-01-P